DEPARTMENT OF HEALTH AND HUMAN SERVICES

National Institutes of Health

National Center for Research Resources; Amended Notice of Meeting

Notice is hereby given of a change in the meeting of the National Advisory Research Resources Council, September 13, 2001, 9:15 AM to September 13, 2001, 5:00 PM, National Center for Research Resources, National Institutes of Health, Conference Room 10, Building 31, Bethesda, MD, 20892 which was published in the Federal Register on August 13, 2001, 66 FR 42549.

Executive Subcommittee Meeting scheduled for September 13, 2001 at 8:00 a.m.-9:00 a.m. has been cancelled. The meeting is partially Closed to the public.

Dated: August 16, 2001.
LaVerne Y. Stringfield,
Director, Office of Federal Advisory Committee Policy.

[FR Doc. 01-21254 Filed 8-22-01; 8:45 am]

BILLING CODE 4140-01-M